FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201325.

Agreement Name: Sealand/Network Space Charter Agreement.

Parties: Maersk A/S d/b/a Sealand and Network Shipping, Ltd.

Filing Party: Wayne Rohde; Cozen O'Connor.

Synopsis: The Agreement authorizes Sealand to charter space to Network Shipping in the trade between ports in Ecuador, Panama, Costa Rica, El Salvador, Guatemala, Nicaragua, and Mexico on the one hand and ports in California on the other hand.

Proposed Effective Date: 1/11/2020.

Location: https://www2.fmc.gov/FMC.Agreements.Web/Public/AgreementHistory/25450.

Dated: December 2, 2019.
JoAnne O'Bryant,
Program Analyst.

[FR Doc. 2019-26262 Filed 12-4-19; 8:45 am]

BILLING CODE 6731-AA-P